DEPARTMENT OF HEALTH AND HUMAN SERVICES

Meeting of the President's Council on Bioethics

AGENCY: Department of Health and Human Services.

ACTION: Notice of meeting.

SUMMARY: The President's Council on Bioethics will hold its first meeting, to discuss its agenda and future activities.

DATES: Meetings will be held on Thursday, January 17, 2002, from 9 a.m. to 6 p.m., and Friday, January 18, 2002, from 8:30 a.m. to 1 p.m.

ADDRESSES: The meeting will take place in Washington, DC. The exact location will be announced at a later date and will posted at http://aspe.hhs.gov.

FOR FURTHER INFORMATION CONTACT: Ms. Deborah McMahon, President's Council on Bioethics, Sixth Floor, 1801 Pennsylvania Avenue, NW., Washington, DC 20036, 202-296-4694.

SUPPLEMENTARY INFORMATION: The agenda of the meeting will include discussion of the future activities of the President's Council on Bioethics, a presidential advisory committee established by executive order to, among other things, conduct fundamental inquiry into the moral and human meaning of developments in biomedical science and technology. The meeting will include a period for comments from the public and any required administrative discussions and executive sessions.

Dated: December 21, 2001.
Dean Clancy,
Executive Director, President's Council on Bioethics.

[FR Doc. 01-32111 Filed 12-28-01; 8:45 am]

BILLING CODE 4151-05-P